DEPARTMENT OF COMMERCE

International Trade Administration

[C-570-096]

Aluminum Wire and Cable From the People's Republic of China: Rescission of Countervailing Duty Administrative Review; 2019

AGENCY: Enforcement and Compliance, International Trade Administration, Department of Commerce.

SUMMARY: The Department of Commerce (Commerce) is rescinding the administrative review of the countervailing duty (CVD) order on aluminum wire and cable from the People's Republic of China (China) for the period of review (POR) April 8, 2019, through December 31, 2019.

DATES: Applicable July 12, 2021.

FOR FURTHER INFORMATION CONTACT: Caitlin Monks, AD/CVD Operations, Office VII, Enforcement and Compliance, International Trade Administration, U.S. Department of Commerce, 1401 Constitution Avenue NW, Washington, DC 20230; telephone: (202) 482-2670.

SUPPLEMENTARY INFORMATION:

Background

On December 2, 2020, Commerce published in the Federal Register a notice of opportunity to request an administrative review of the CVD order on aluminum wire and cable from China covering the POR.¹ On December 31, 2020, Commerce received timely requests for review of several companies from Encore Wire Corporation (Encore) and Southwire Company LLC (collectively, the petitioners),² and separately, Repwire LLC (Repwire).³

¹ See Antidumping or Countervailing Duty Order, Finding, or Suspended Investigation; Opportunity to Request Administrative Review, 85 FR 77433 (December 2, 2020) (Opportunity Notice).

² See Petitioners' Letter, “Aluminum Wire and Cable from the People's Republic of China: Request for Administrative Review,” dated December 31, 2020.

³ See Repwire's Letter, “Aluminum Wire and Cable from the People's Republic of China, C-570-096; Request for Administrative Review,” dated December 31, 2020.

On February 4, 2020, in accordance with section 751(a) of the Tariff Act of 1930, as amended (the Act), Commerce published in the Federal Register a notice initiating an administrative review of ICF Cable and Jin Tiong Electrical Materials Manufacturer PTE. Limited (Jin Tiong) (collectively, the Companies Subject to the Review).⁴ On February 10, 2021, we notified interested parties that information from U.S. Customs and Border Protection (CBP)'s database, which is comprised of actual U.S. entries of subject merchandise, indicated that there were no POR entries of aluminum wire and cable from China that are subject to CVD duties with respect to the Companies Subject to the Review.⁵ We invited interested parties to comment on the CBP Entry Data.⁶ On February 18, 2021, Encore submitted comments in response to the CBP Entry Data, alleging that ICF Cable exported Chinese-origin subject merchandise to the United States during the POR, and requested that Commerce select ICF Cable as a mandatory respondent in the instant review.⁷

⁴ See Initiation of Antidumping and Countervailing Duty Administrative Reviews, 85 FR 8171 (February 4, 2021) (Initiation Notice); see also, Initiation of Antidumping and Countervailing Duty Administrative Reviews, 86 FR 17135 (April 1, 2021) (Revised Initiation Notice).

⁵ See Memorandum, “Results of U.S. Customs and Border Protection Data Query,” dated February 10, 2021 (CBP Entry Data).

⁶ Id.

⁷ See Encore's Letter, “Aluminum Wire and Cable from the People's Republic of China: Comments on Customs Data and Respondent Selection,” dated February 18, 2021 (Encore's Respondent Selection Comments).

On March 26, 2021, we requested that CBP confirm whether any shipments of aluminum wire and cable from China, produced and/or exported by ICF Cable or Jin Tiong entered the United States during the POR.⁸ On April 1, 2021, CBP confirmed that there were no shipments of subject merchandise produced and/or exported by ICF Cable or Jin Tiong during the POR.⁹ We invited interested parties to comment on CBP's Confirmation of No Shipments.¹⁰ On April 19, 2021, Encore submitted timely comments in response to CBP's Confirmation of No Shipments.¹¹ In its comments, Encore reiterated its claim that ICF Cable made sales, shipments, and/or exports of aluminum wire and cable produced in China during the POR without paying applicable cash deposits, and requested that Commerce issue a quantity and value questionnaire to ICF Cable.¹² Our analysis of the record leads us to conclude that there are no reviewable entries of aluminum wire and cable from China during the POR. For a full discussion of the comments raised by Encore and our analysis, see the Rescission Memorandum.¹³

⁸ See Memorandum, “Aluminum Wire and Cable from the People's Republic of China; No Shipment Inquiry for ICF Cable and Jin Tiong Electrical Materials Manufacturer PTE. Limited during the period 04/08/2019 through 12/31/2019,” dated April 13, 2021 (CBP's Confirmation of No Shipments) at Attachment.

⁹ Id. at 1.

¹⁰ See Memorandum, “Deadline for Rebuttal Factual Information,” dated April 14, 2021.

¹¹ See Encore's Letter, “Aluminum Wire and Cable from the People's Republic of China: Comments on CBP No Shipments Response,” dated April 19, 2021 (Encore's Rebuttal Comments).

¹² Id.

¹³ See Memorandum, “Rescission of the 2019 Countervailing Duty Administrative Review,” dated concurrently with this notice (Rescission Memorandum).

Rescission of Review

It is Commerce's practice to rescind an administrative review of a CVD order, pursuant to 19 CFR 351.213(d)(3), when there are no reviewable entries of subject merchandise during the POR for which liquidation is suspended.¹⁴ Normally, upon completion of an administrative review, the suspended entries are liquidated at the CVD assessment rate calculated for the review period.¹⁵ Therefore, for an administrative review to be conducted, there must be a reviewable, suspended entry that Commerce can instruct CBP to liquidate at the CVD assessment rate calculated for the review period.¹⁶ Accordingly, in the absence of suspended entries of subject merchandise during the POR for either of the companies named in the Initiation Notice, we are hereby rescinding this administrative review in accordance with 19 CFR 351.213(d)(3).

¹⁴ See, e.g., Lightweight Thermal Paper from the People's Republic of China: Notice of Rescission of Countervailing Duty Administrative Review; 2015, 82 FR 14349 (March 20, 2017).

¹⁵ See 19 CFR 351.212(b)(2).

¹⁶ See 19 CFR 351.213(d)(3).

Assessment Rates

Commerce will instruct CBP to assess countervailing duties on all appropriate entries. Because Commerce is rescinding this review in its entirety, the entries to which this administrative review pertained shall be assessed at rates equal to the cash deposit of estimated countervailing duties required at the time of entry, or withdrawal from warehouse, for consumption, in accordance with 19 CFR 351.212(c)(1)(i). Commerce intends to issue appropriate assessment instructions to CBP no earlier than 35 days after the publication of this notice in the Federal Register.

Notification Regarding Administrative Protective Order

This notice serves as the only reminder to parties subject to the administrative protective order (APO) of their responsibility concerning the destruction of proprietary information disclosed under APO in accordance with 19 CFR 351.305(a)(3). Timely written notification of the return/destruction of APO materials or conversion to judicial protective order is hereby requested. Failure to comply with the regulations and terms of an APO is a violation which is subject to sanction.

Notification to Interested Parties

This determination is issued and published pursuant to sections 751(a)(1) and 777(i)(1) of the Act, and 19 CFR 351.213(d)(4).

Dated: July 6, 2021.
James Maeder,
Deputy Assistant Secretary for Antidumping and Countervailing Duty Operations.

[FR Doc. 2021-14748 Filed 7-9-21; 8:45 am]

BILLING CODE 3510-DS-P>